FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier Ocean Transportation Intermediary Applicants

Tri-State Runner, 520A Palisades Ave., Teaneck, NJ 07666, Vinton South, Sole Proprietor.

Ocean Cargo Express Lines, LLC, 5572 Export Blvd., Garden City, GA 31408, Officers: Suzanne M. Loe, Manager, (Qualifying Individual) Willem A. Vermaas, Member.

Delvi, Inc., 7010 N.W. 50 Street, Miami, FL 33166, Officers: Jose A. Riba, Secretary (Qualifying Individual), Jose A. Riba, Sr., President.

Non-Vessel-Operating Common Carrier and Ocean Freight Forwarder Transportation Intermediary Applicants

KCTC International (America), Inc., dba World Bridge Line, 16012 S. Western Ave., Ste. 302, Gardena, CA 90247, Officer: Byung H. Chung, President (Qualifying Individual).

G.P. Logistics, Inc., 9910 NW 21st Street, Miami, FL 33172, Officer: Byron E. Keeler, President (Qualifying Individual).

Express USA Inc., 200 Middlesex Essex Tpk, Ste. 100, Iselin, NJ 08830, Officer: Christian Nadal, Secretary (Qualifying Individual).

AME Logistics LLC, 156-15 146 Ave., Ste. 128, Jamaica, NY 11434, Officers: Peter Lee, President (Qualifying Individual), James Lo, Partner.

AFC Worldwide Express, Inc. dba R+L Global Logistics, 975 Cobb Place Blvd., Ste. 101, Kennesaw, GA 30144, Officers: Anthony J. Scaturro, President (Qualifying Individual), Glenn S. Henderson, CEO.

Metro Freight Services Inc. dba Maritime, Express Lines (M.E.L.), 1225 W. St. George Ave., Linden, NJ 07036, Officer: Georges T. Samaha, President (Qualifying Individual).

Elzado Enterprises Incorporated, 14940 Grant Lane, Leisure City, FL 33033, Officer: Trudy Westcarr, CFO (Qualifying Individual).

Poseidon Logistics, Inc., 801 S. Garfield Ave., Ste. 200, Alhambra, CA 91801, Officer: An (Anna) Tong Li, Secretary (Qualifying Individual).

SIRVA Move Management, Inc., 5001 U.S. Highway 30 West, Fort Wayne, IN 46818, Officer: Donald J. Krengiel, Asst. Secretary (Qualifying Individual).

Joker Logistics USA, Inc., 11301 Metro Airport Center Dr., Ste. 170, Romulus, MI 48174, Officer: Michael Unsworth, V.P. of Customs (Qualifying Individual).

Ocean Freight Forwarder—Ocean Transportation Intermediary Applicant

Global Transit Group LLC, 2266 Bath Ave., Brooklyn, NY 11214, Officer: Rostislav Kamenetskiy, Manager (Qualifying Individual).

Dated: September 18, 2009.
Karen V. Gregory,
Secretary.

[FR Doc. E9-22985 Filed 9-22-09; 8:45 am]

BILLING CODE 6730-01-P